NUCLEAR REGULATORY COMMISSION

[NRC-2011-0286]

Guidance for Decommissioning Planning During Operations

AGENCY: Nuclear Regulatory Commission.

ACTION: Draft regulatory guide; correction.

SUMMARY: The U.S. Nuclear Regulatory Commission (NRC) is correcting a notice appearing in the Federal Register on February 15, 2012 (77 FR 8751), that re-opened the public comment period for Draft Regulatory Guide (DG)-4014, “Decommissioning Planning During Operations.” This action is necessary to correct the NRC's Agencywide Documents Access and Management System (ADAMS) accession number for accessing DG-4014 in the ADDRESSES section of this document.

FOR FURTHER INFORMATION CONTACT: Cindy Bladey, Chief, Rules, Announcements, and Directives Branch, Office of Administration, Nuclear Regulatory Commission, Washington, DC 20555-0001, telephone: 301-492-3667; email: Cindy.Bladey@nrc.gov.

SUPPLEMENTARY INFORMATION: On page 8751 of Federal Register document 2012-3522, published February 15, 2012 (77 FR 8751), in the second column, the second bullet from the bottom, last sentence, under the section titled ADDRESSES, “ML110960051” is corrected to read “ML111590642.”

Dated at Rockville, Maryland, this 5th day of February 2012.
For the Nuclear Regulatory Commission.
Cindy Bladey,
Chief, Rules, Announcements, and Directives Branch, Division of Administrative Services, Office of Administration.

[FR Doc. 2012-5658 Filed 3-7-12; 8:45 am]

BILLING CODE 7590-01-P